ENVIRONMENTAL PROTECTION AGENCY

[EPA-HQ-OECA-2013-0332; FRL-9903-91-OEI]

Information Collection Request Submitted to OMB for Review and Approval; Comment Request; NSPS for Small Industrial-Commercial-Institutional Steam Generating Units (Renewal)

AGENCY: Environmental Protection Agency (EPA).

ACTION: Notice.

SUMMARY: The Environmental Protection Agency has submitted an information collection request (ICR), “NSPS for Small Industrial-Commercial-Institutional Steam Generating Units (40 CFR Part 60, Subpart Dc) (Renewal)” (EPA ICR Number 1564.09, OMB Control Number 2060-0202), to the Office of Management and Budget (OMB) for review and approval in accordance with the Paperwork Reduction Act (44 U.S.C. 3501 et seq.). This is a proposed extension of the ICR, which is currently approved through March 31, 2014. Public comments were previously requested via the Federal Register (78 FR 33409) on June 4, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 10, 2014.

ADDRESSES: Submit your comments, referencing Docket ID Number EPA-HQ-OECA-2013-0332, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The affected entities are subject to the General Provisions of the NESHAP (40 CFR part 60, subpart A), and any changes or additions to the Provisions specified at 40 CFR part 60, subpart Dc. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of small industrial-commercial-institutional steam generating units.

Respondent's obligation to respond: Mandatory (40 CFR part 60, subpart Dc)

Estimated number of respondents: 268 (total).

Frequency of response: Initially, semiannually, and occasionally.

Total estimated burden: 181,964 hours (per year). “Burden” is defined at 5 CFR 1320.3(b).

Total estimated cost: $28,557,971 (per year), includes $10,758,723 annualized capital or operation & maintenance costs.

Changes in the Estimates: There is an adjustment increase in the respondent and Agency burden from the most recently approved ICR due to an increase in the number of new or modified sources. This ICR assumes an industry growth rate of 11 respondents per year, which results in an average increase of 33 respondents since the last ICR renewal period. The industry growth also results in an increase in O&M costs. In addition, this ICR corrects the number of new sources that are expected to use COMS for PM monitoring, which results in an increase in capital costs.

Richard T. Westlund,
Acting Director, Collection Strategies Division.

[FR Doc. 2013-29504 Filed 12-10-13; 8:45 am]

BILLING CODE 6560-50-P